DEPARTMENT OF THE INTERIOR

Bureau of Land Management

[19X.LLAK930000.L13100000.DS0000]

Notice of Intent To Prepare an Integrated Activity Plan and Environmental Impact Statement for the National Petroleum Reserve in Alaska

AGENCY: Bureau of Land Management, Interior.

ACTION: Notice of intent.

SUMMARY: In accordance with the Naval Petroleum Reserves Production Act of 1976, as amended, the Bureau of Land Management (BLM) Alaska State Office, Anchorage, Alaska, intends to prepare a new Integrated Activity Plan and Environmental Impact Statement (IAP/EIS) for BLM-managed lands within the National Petroleum Reserve in Alaska (NPR-A). By this notice, the BLM is announcing the beginning of the Environmental Impact Statement (EIS) scoping process to solicit public comments and identify issues.

DATES: Comments on relevant issues that will influence the scope of the EIS for the NPR-A IAP/EIS project may be submitted in writing until January 7, 2019. The BLM will also provide opportunities for public participation during scoping meetings with appropriate public notice. The date(s) and location(s) of scoping meetings will be announced in advance through local media, newspapers, and the BLM website at: www.blm.gov/alaska.

In order to be considered for the Draft IAP/EIS, all comments must be received prior to the close of the 45-day scoping period. Federal, State or local agencies, or tribes who are interested in serving as a cooperating agency for the development of the IAP/EIS are asked to submit such requests to the BLM.

ADDRESSES: You may submit comments on issues related to the proposed NPR-A IAP/EIS project by any of the following methods:

• Online: http://www.blm.gov/alaska/NPR-A-IAP-EIS.

• Fax: (907) 271-5479.

• Mail: NPR-A IAP/EIS Scoping Comments, 222 West 7th Avenue, Mailstop #13, Anchorage, AK 99513.

The 2013 IAP/EIS ROD can be downloaded from the BLM's website at www.blm.gov/alaska, and you can view hard copies at the BLM Alaska Public Information Center (“Public Room”), Arctic District Office, 222 University Avenue, Fairbanks, Alaska, and at the BLM Alaska Public Information Center (“Public Room”), Alaska State Office, 222 West 8th Avenue, Anchorage, Alaska.

FOR FURTHER INFORMATION CONTACT: Stephanie Rice; Planning and Environmental Coordinator, 907-271-3202, srice@blm.gov. You may also request to be added to the mailing list. People who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: This notice initiates the public scoping process for the EIS. Comments regarding management decisions, resources to be addressed, and issues for analysis will assist the BLM in defining the proposed actions and alternatives for the NPR-A IAP/EIS.

The Naval Petroleum Reserves Production Act (42 U.S.C. 6501), as amended, excludes the NPR-A from the application of Section 202 of the Federal Land Policy and Management Act (43 U.S.C. 1701), as amended, which is the basis for the BLM's Resource Management Plans. The BLM conducts planning within the NPR-A with an IAP. The BLM complies with all applicable laws in the preparation of the IAP, including the National Environmental Policy Act, the Endangered Species Act, Marine Mammal Protection Act, and the National Historic Preservation Act.

Purpose and Need for Action

The BLM is developing a new IAP/EIS to determine the appropriate management of all BLM-managed lands in the NPR-A in a manner consistent with existing statutory direction and Secretarial Order 3352. Secretarial Order 3352 directs the development of a schedule to “effectuate the lawful review and development of an IAP for the NPR-A that strikes an appropriate balance of promoting development while protecting surface resources.” The Naval Petroleum Reserves Production Act, as amended, and its implementing regulations require oil and gas leasing in the NPR-A and the protection of surface values consistent with exploration, development and transportation of oil and gas.

Proposed Action

The BLM will be preparing a new IAP/EIS, which is intended to supersede the 2013 IAP/EIS ROD and, depending on the alternative selected, may supersede the 2008 Colville River Special Area Management Plan, as amended by the 2013 IAP/EIS ROD.

Lead and Cooperating Agencies

The BLM is the lead agency for the IAP/EIS. The BLM has extended invitations to participate as cooperating agencies to the U.S. Fish and Wildlife Service, the National Marine Fisheries Service, the State of Alaska, the North Slope Borough, the National Park Service, the Bureau of Ocean Energy Management, and the U.S. Geological Survey.

Responsible Official

The Secretary of the Interior is the responsible official.

Nature of Decision To Be Made

Consistent with the Naval Petroleum Reserves Production Act, the IAP/EIS will address a narrower range of multiple use management than a resource management plan (e.g., it will not contemplate opening lands to hard rock or coal mining). The IAP/EIS will include: A consideration of a range of alternatives that make lands available for leasing; an examination of current special area boundaries; and, a consideration of new or revised lease stipulations and best management practices. The IAP/EIS would also ensure that the BLM's land management will provide the opportunity, subject to appropriate conditions developed through a National Environmental Policy Act (NEPA) process, to construct pipelines and other necessary infrastructure to bring oil and gas resources from offshore or adjacent leases to the Trans-Alaska Pipeline System or a future gas pipeline from the North Slope. The IAP/EIS would also consider the potential for a road system connecting communities across the North Slope.

Scoping Process

This notice of intent initiates the scoping process, which guides the development of the IAP/EIS. The purpose of the public scoping process is to determine the management decisions and resources to be addressed and the issues for analysis. The BLM will work collaboratively with interested parties to identify the management decisions best suited to local, regional, and national needs and concerns.

The BLM must receive all comments by the end of the scoping comment period to be included in the scoping report. The most useful comments are substantive comments that address the following topics: Areas available for leasing, special area boundaries, lease stipulations and best management practices, and resource issues to be analyzed.

You may submit written comments on management decisions, resources to be addressed, and issues for analysis to the BLM at any of the public scoping meetings, or you may use any of the methods listed in the ADDRESSES section above. Before including your address, phone number, email address, or other personal identifying information in your comment, you should be aware that your entire comment—including your personal identifying information—may be made publicly available at any time. Although you may ask the BLM to withhold your personal identifying information from public review, the BLM cannot provide any guarantees that it will be able to do so.

Authority: 40 CFR 1501.7.

Ted A. Murphy,
Acting State Director, Alaska.

[FR Doc. 2018-25336 Filed 11-20-18; 8:45 am]

BILLING CODE 4310-JA-P